NUCLEAR REGULATORY COMMISSION

Advisory Committee on Reactor Safeguards

In accordance with the purposes of Sections 29 and 182b of the Atomic Energy Act (42 U.S.C. 2039, 2232b), the Advisory Committee on Reactor Safeguards (ACRS) will hold a meeting on October 8-10, 2009, 11555 Rockville Pike, Rockville, Maryland. The date of this meeting was previously published in the Federal Register on Monday, October 6, 2008, (73 FR 58268-58269).

Thursday, October 8, 2009, Commissioners' Conference Room O-1f16, One White Flint North, Rockville, Maryland

8:30 a.m.-8:35 a.m.: Opening Remarks by the ACRS Chairman (Open)—The ACRS Chairman will make opening remarks regarding the conduct of the meeting.

8:35 a.m.-10:30 a.m.: Combined License Application for North Anna, Unit 3, Economic Simplified Boiling Water Reactor (ESBWR) and the Draft Safety Evaluation Report (SER) with Open Items (Open)—The Committee will hear presentations by and hold discussions with representatives of the NRC staff and Dominion Virginia Power regarding the North Anna ESBWR Combined License Application, the draft SER with Open Items, and related matters.

10:45 a.m.-12:15 p.m.: License Renewal Application and Final SER for the Susquehanna Steam Electric Station, Units 1 and 2 (Open)—The Committee will hear presentations by and hold discussions with representatives of the NRC staff and PPL Susquehanna, LLC regarding the license renewal application for the Susquehanna Steam Electric Station, Units 1 and 2, the associated NRC staff's final SER, and related matters.

1:15 p.m.-3:15 p.m.: Steam Generator Action Plan (SGAP) Task 3.5, “A Risk Assessment of Consequential Steam Generator Tube Ruptures,” and Other SGAP Items (Open)—The Committee will hear presentations by and hold discussions with representatives of the NRC staff regarding SGAP Task 3.5, other SGAP items, and related matters.

3:30 p.m.-5 p.m.: Oyster Creek 3-Dimensional Structural Analysis of the Drywell Shell (Open)—The Committee will hear presentations by and hold discussions with representatives of the NRC staff and Exelon Generation Company, LLC, regarding the Oyster Creek 3-dimensional structural analysis of the drywell shell and related matters.

Conference Room T8-A1, Two White Flint North, Rockville, Maryland

5:15 p.m.-7 p.m.: Preparation of ACRS Reports (Open)—The Committee will discuss proposed ACRS reports on matters discussed during this meeting.

Friday, October 9, 2009, Commissioners' Conference Room O-1F16, One White Flint North, Rockville, Maryland

8:30 a.m.-8:35 a.m.: Opening Remarks by the ACRS Chairman (Open)—The ACRS Chairman will make opening remarks regarding the conduct of the meeting.

8:35 a.m.-9:45 a.m.: Draft Final Revision 2 to Regulatory Guide 1.189, “Fire Protection for Nuclear Power Plants” (Open)—The Committee will hear presentations by and hold discussions with representatives of the NRC staff regarding the draft final Revision 2 to Regulatory Guide 1.189, NRC staff's resolution of public comments, and related matters.

10 a.m.-11 a.m.: 10 CFR Part 52 Regulatory Process (Open)—The Committee will hear presentations by and hold discussions with representatives of the NRC staff regarding the 10 CFR part 52 regulatory process and related matters.

11 a.m.-11:15 a.m.: Subcommittee Reports (Open)—The Committee will hear a report by and hold discussions with the Chairman of the AP1000 Subcommittee regarding selected Chapters of the draft SER with Open Items related to changes to the AP1000 Design Control Document that were discussed during the meeting on October 6-7, 2009.

12:15 p.m.-1 p.m.: Future ACRS Activities/Report of the Planning and Procedures Subcommittee (Open/Closed)—The Committee will discuss the recommendations of the Planning and Procedures Subcommittee regarding items proposed for consideration by the full Committee during future ACRS meetings, and matters related to the conduct of ACRS business, including anticipated workload and member assignments.

[Note: A portion of this session may be closed pursuant to 5 U.S.C. 552b(c)(2) and (6) to discuss organizational and personnel matters that relate solely to internal personnel rules and practices of ACRS, and information the release of which would constitute a clearly unwarranted invasion of personal privacy.]

1 p.m.-1:15 p.m.: Reconciliation of ACRS Comments and Recommendations (Open)—The Committee will discuss the responses from the NRC Executive Director for Operations to comments and recommendations included in recent ACRS reports and letters.

1:30 p.m.-3:30 p.m.: Draft ACRS Report on the NRC Safety Research Program (Open)—The Committee will discuss a draft ACRS report on the NRC Safety Research Program.

Conference Room T8-A1, Two White Flint North, Rockville, Maryland

3:45 p.m.-7 p.m.: Preparation of ACRS Reports (Open)—The Committee will discuss proposed ACRS reports on matters discussed during this meeting.

Saturday, October 10, 2009, Conference Room T8-A1 Two White Flint North, Rockville, Maryland

8:30 a.m.-1:30 p.m.: Preparation of ACRS Reports (Open)—The Committee will continue its discussion of proposed ACRS reports.

1:30 p.m.-2 p.m.: Miscellaneous (Open)—The Committee will continue its discussion related to the conduct of Committee activities and specific issues that were not completed during previous meetings.

Procedures for the conduct of and participation in ACRS meetings were published in the Federal Register on October 6, 2008, (73 FR 58268-58269). In accordance with those procedures, oral or written views may be presented by members of the public, including representatives of the nuclear industry. Thirty-five hard copies of each presentation or handout should be provided to the Designated Federal Official 30 minutes before the meeting. In addition, one electronic copy of each presentation should be emailed to the Designated Federal Official one day before meeting. If an electronic copy cannot be provided within this timeframe, presenters should provide the Designated Federal Official with a CD containing each presentation at least 30 minutes before the meeting. Electronic recordings will be permitted only during the open portions of the meeting. Persons desiring to make oral statements should notify the Cognizant ACRS staff named below five days before the meeting, if possible, so that appropriate arrangements can be made to allow necessary time during the meeting for such statements. Use of still, motion picture, and television cameras during the meeting may be limited to selected portions of the meeting as determined by the Chairman. Information regarding the time to be set aside for this purpose may be obtained by contacting the Cognizant ACRS staff prior to the meeting. In view of the possibility that the schedule for ACRS meetings may be adjusted by the Chairman as necessary to facilitate the conduct of the meeting, persons planning to attend should check with the Cognizant ACRS staff if such rescheduling would result in major inconvenience.

In accordance with Subsection 10(d) Public Law 92-463, I have determined that it may be necessary to close a portion of this meeting noted above to discuss organizational and personnel matters that relate solely to internal personnel rules and practices of ACRS, and information the release of which constitute a clearly unwarranted invasion of personal privacy pursuant to 5 U.S.C. 552b(c)(2) and (6).

Further information regarding topics to be discussed, whether the meeting has been canceled or rescheduled, as well as the Chairman's ruling on requests for the opportunity to present oral statements and the time allotted therefor can be obtained by contacting Girija Shukla, Cognizant ACRS staff (301-415-6855), between 7:15 a.m. and 5 p.m. (ET). ACRS meeting agenda, meeting transcripts, and letter reports are available through the NRC Public Document Room at pdr.resource@nrc.gov, or by calling the PDR at 1-800-397-4209, or from the Publicly Available Records System (PARS) component of NRC's document system (ADAMS) which is accessible from the NRC Web site at http://www.nrc.gov/reading-rm/adams.html or http://www.nrc.gov/reading-rm/doc-collections/ACRS/.

Video teleconferencing service is available for observing open sessions of ACRS meetings. Those wishing to use this service for observing ACRS meetings should contact Mr. Theron Brown, ACRS Audio Visual Technician (301-415-8066), between 7:30 a.m. and 3:45 p.m., (ET), at least 10 days before the meeting to ensure the availability of this service. Individuals or organizations requesting this service will be responsible for telephone line charges and for providing the equipment and facilities that they use to establish the video teleconferencing link. The availability of video teleconferencing services is not guaranteed.

Dated: September 21, 2009.
Andrew L. Bates,
Advisory Committee Management Officer.

[FR Doc. E9-23194 Filed 9-24-09; 8:45 am]

BILLING CODE 7590-01-P